DEPARTMENT OF TRANSPORTATION

Federal Transit Administration

Limitation on Claims Against Proposed Public Transportation Project—Operations and Maintenance Facility South, Federal Way, King County, Washington

AGENCY: Federal Transit Administration (FTA), Department of Transportation (DOT).

ACTION: Notice.

SUMMARY: This notice announces final environmental actions taken by the Federal Transit Administration (FTA) regarding the Operations and Maintenance Facility South, Federal Way, King County, Washington. The purpose of this notice is to publicly announce FTA's environmental decisions on the subject project, and to activate the limitation on any claims that may challenge these final environmental actions.

DATES: A claim seeking judicial review of FTA actions announced herein for the listed public transportation project will be barred unless the claim is filed on or before February 6, 2025.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov/about/regional-offices/regional-offices.

This notice applies to all FTA decisions on the listed project as of the issuance date of this notice and all laws under which such actions were taken, including, but not limited to, NEPA (42 U.S.C. 4321-4375), Section 4(f) requirements (49 U.S.C. 303), Section 106 of the National Historic Preservation Act (54 U.S.C. 306108), Endangered Species Act (16 U.S.C. 1531), Magnuson-Stevens Fisheries Conservation and Management Act (16 U.S.C. 1801), Migratory Bird Treaty Act (16 U.S.C. 703-712), Clean Water Act (33 U.S.C. 1251), the Uniform Relocation and Real Property Acquisition Policies Act (42 U.S.C. 4601), Coastal Zone Management Act (16 U.S.C. 1451-1462) and the Clean Air Act (42 U.S.C. 7401-7671q). This notice does not, however, alter or extend the limitation period for challenges of project decisions subject to previous notices published in the Federal Register. The project modifications and actions that are the subject of this notice follow:

Project name and location: Operations and Maintenance Facility South (Project), Federal Way, King County, Washington.

Project sponsor: Central Puget Sound Regional Transit Authority (Sound Transit), Seattle, King County, Washington.

Project description: The Project would construct and operate a light rail operations and maintenance facility (OMF) in its South Corridor. The OMF would be constructed on 66 acres and provide capacity to receive, test, commission, store, maintain, and deploy an expanded fleet of light rail vehicles (LRVs) to support the Link light rail system expansion goal as part of Sound Transit 3: The Regional Transit System Plan for Central Puget Sound (Sound Transit 3). The facility will include the OMF building, Maintenance of Way (MOW) building, the Link System-Wide Storage building, OMF tracks that provide staging for LRVs, parking (480 spaces), training tracks, and yard areas. The Project also involves construction of new mainline track (1.4 miles), a 0.9-mile test track running parallel to the mainline tracks, and a tail track connecting the facility to the light rail system.

Final agency actions: Section 106 no adverse effect determination, dated October 31, 2023; Section 4(f) de minimis impact determination, dated October 31, 2023; and Operations and Maintenance Facility South Record of Decision (ROD), dated August 7, 2024.

Supporting documentation: Operations and Maintenance Facility South Project Final Environmental Impact Statement (FEIS), dated June 7, 2024, and Operations and Maintenance Facility South Project Draft Environmental Impact Statement (DEIS) dated September 22, 2023. The ROD, FEIS, DEIS and associated documents can be viewed and downloaded from: https://www.soundtransit.org/system-expansion/operations-maintenance-facility-south.

Authority: 23 U.S.C. 139(l)(1).

Megan Blum,
Deputy Associate Administrator for Planning and Environment.

[FR Doc. 2024-20190 Filed 9-6-24; 8:45 am]

BILLING CODE 4910-57-P